NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On August 6, 2007, the National Science Foundation published a notice in the Federal Register of a permit applications received. Permits were issued on September 5, 2007 to:

Sam Feola: Permit No. 2008-007.

Rennie S. Holt: Permit No. 2008-008.

Sam Feola: Permit No. 2008-009.

David Caron: Permit No. 2008-010.

Sam Feola: Permit No. 2008-011.

Arthur L. DeVries: Permit No. 2008-012.

Nadene G. Kennedy,
Permit Officer.

[FR Doc. E7-17773 Filed 9-10-07; 8:45 am]

BILLING CODE 7555-01-P